SMALL BUSINESS ADMINISTRATION

[Disaster Declaration # 10860 and # 10861]

Vermont Disaster # VT-00002

AGENCY: U.S. Small Business Administration.

ACTION: Notice.

SUMMARY: This is a notice of an Administrative declaration of a disaster for the State of Vermont dated 05/01/2007.

Incident: Severe Storms and Flooding.

Incident Period: 04/15/2007 through 04/16/2007.

Effective Date: 05/01/2007.

Physical Loan Application Deadline Date: 07/02/2007.

Economic Injury (EIDL) Loan Application Deadline Date: 02/01/2008

ADDRESSES: Submit completed loan applications to:

U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Rutland.

Contiguous Counties:

Vermont, Addison, Bennington, Windsor. New York, Washington.

The Interest Rates are:

| Percent
Homeowners With Credit Available Elsewhere | 5.750
Homeowners Without Credit Available Elsewhere | 2.875
Businesses With Credit Available Elsewhere | 8.000
Businesses & Small Agricultural Cooperatives Without Credit Available Elsewhere | 4.000
Other (Including Non-Profit Organizations) With Credit Available Elsewhere | 5.250
Businesses And Non-Profit Organizations Without Credit Available Elsewhere | 4.000

The number assigned to this disaster for physical damage is 10860 B and for economic injury is 10861 0. The States which received an EIDL Declaration # are Vermont and New York.

(Catalog of Federal Domestic Assistance Numbers 59002 and 59008)

Dated: May 1, 2007.
Steven C. Preston,
Administrator.

[FR Doc. E7-8830 Filed 5-8-07; 8:45 am]

BILLING CODE 8025-01-P